POSTAL SERVICE

39 CFR Part 912

Procedures To Adjudicate Claims for Personal Injury or Property Damage Arising Out of the Operation of the U.S. Postal Service

AGENCY: Postal Service.

ACTION: Final rule.

SUMMARY: This rule amends the Postal Service's regulations concerning tort claims to correct mailing addresses and to clarify ambiguous provisions.

DATES: Effective August 27, 2004.

FOR FURTHER INFORMATION CONTACT: Frank M. Bartholf, Managing Counsel, General Law Service Center, P.O. Box 66640, St. Louis, MO 63166-6640; telephone (314) 872-5120.

SUPPLEMENTARY INFORMATION: Amendment of part 912 is necessary to reflect organizational changes that have occurred in the Postal Service since the last amendment of this part in 1984 (49 FR 19478), and to clarify ambiguous provisions. This rule is a change in agency rules of procedure that does not substantially affect any rights or obligations of private parties. Therefore, it is appropriate for its adoption by the Postal Service to become effective immediately.

List of Subjects in 39 CFR Part 912

Administrative practice and procedure; Claims.

For the reasons set forth above, the Postal Service amends 39 CFR part 912 as follows:

PART 912—[AMENDED]

1. The authority citation for part 912 continues to read as follows:

Authority: 28 U.S.C. 2671-2680; 28 CFR 14.1 through 14.11; 39 U.S.C. 409.

§ 912.2 [Amended]

2. In § 912.2(b), remove “or his designee” and add “or the General Counsel's designee” in its place.

3. Revise § 912.4 to read as follows:

§ 912.4 Place of filing.

Claims should be filed with the Tort Claims Coordinator for the Postal Service District Office where the accident occurred, but may be filed at any office of the Postal Service, or sent directly to the Chief Counsel, National Tort Center, U.S. Postal Service, P.O. Box 66640, St. Louis, MO 63166-6640.

4. Amend § 912.5 by revising the last sentence of paragraph (a), and paragraph (b) to read as follows:

§ 912.5 Administrative claim; when presented.

(a) * * * A standard Form 95 may be obtained from the local District Tort Claims Coordinator, the National Tort Center, or online at usa.gov (select Government forms).

(b) A claim presented in compliance with paragraph (a) of this section may be amended by the claimant at any time prior to:

(1) The claimant's exercise of the option to file a civil action pursuant to 28 U.S.C. 2675(a);

(2) The Postal Service's issuance of a payment in the full amount of the claim; or

(3) The Postal Service's issuance of a written denial of the claim in accordance with § 912.9.

§ 912.9 [Amended]

5. Amend § 912.9 as follows:

(a) Amend paragraph (b) by removing the phrase “Assistant General Counsel, Claims Division, U.S. Postal Service, Washington, DC 20260” and adding “Chief Counsel, National Tort Center, U.S. Postal Service, P.O. Box 66640, St. Louis, MO 63166-6640” in its place.

(b) Amend paragraph (c) by removing the phrase “Assistant General Counsel, Claims Division, U.S. Postal Service, Washington, DC 20260-1111” and adding “Chief Counsel, National Tort Center, U.S. Postal Service, P.O. Box 66640, St. Louis, MO 63166-6640” in its place.

§ 912.10 [Amended]

6. In § 912.10, remove the phrase “or his designee” and add “or the General Counsel's designee” in its place.

§ 912.12 [Amended]

7. In § 912.12, remove “$2,500” and add “$5,000” in its place.

Neva R. Watson,
Attorney, Legislative.

[FR Doc. 04-19195 Filed 8-26-04; 8:45 am]

BILLING CODE 7710-12-P